DEPARTMENT OF HEALTH AND HUMAN SERVICES

National Institutes of Health

Government-Owned Inventions; Availability for Licensing

AGENCY: National Institutes of Health, Public Health Service, HHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information may be obtained by writing to the indicated licensing contact at the Office of Technology Transfer, National Institutes of Health, 6011 Executive Boulevard, Suite 325, Rockville, Maryland 20852-3804; telephone: 301/496-7057; fax: 301/402-0220.

Hand Puncture Protector for Nurses

Description of Technology: Available for licensing and commercial development is a device that provides nurses or other health care workers with protection against accidental needle sticks. Specifically, a device has been created which protects the most susceptible areas on the back and sides of the thumb, forefinger and the area of the hand there between. This offers the notable advantage of preventing infections from accidental needle sticks. This invention is particularly useful during the risky task of inserting a twisted or kinked needle (such as a Huber needle) into a pot-a-cath.

Inventors: Bonnie C. Thornton et al. (CC).

Patent Status: U.S. Patent No. 5,706,520 issued 13 Jan 1998 (HHS Reference No. E-104-1992/0-US-01).

Licensing Status: Available for non-exclusive or exclusive licensing.

Licensing Contact: Michael A. Shmilovich, Esq.; 301/435-5019; shmilovm@mail.nih.gov.

Dated: April 19, 2006.
Steven M. Ferguson,
Director, Division of Technology Development and Transfer, Office of Technology Transfer, National Institutes of Health.

[FR Doc. 06-4111 Filed 5-1-06; 8:45 am]

BILLING CODE 4140-01-P